FEDERAL COMMUNICATIONS COMMISSION

Notice of Public Information Collection(s) Being Submitted to OMB for Review and Approval

February 23, 2000.

SUMMARY: The Federal Communications Commissions, as part of its continuing effort to reduce paperwork burden invites the general public and other Federal agencies to take this opportunity to comment on the following information collection, as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) Whether the proposed collection of information is necessary for the proper performance of the functions of the Commission, including whether the information shall have practical utility; (b) The accuracy of the Commission's burden estimate; (c) Ways to enhance the quality, utility, and clarity of the information collected; and (d) Ways to minimize the burden of the collection of information on the respondents, including the use of automated collection techniques or other forms of information technology.

DATES: Written comments should be submitted on or before April 3, 2000. If you anticipate that you will be submitting comments, but find it difficult to do so within the period of time allowed by this notice, you should advise the contact listed below as soon as possible.

ADDRESSES: Direct all comments to Les Smith, Federal Communications Commission, Room 1-A804, 445 12th Street, SW, Washington, DC 20554 or via the Internet to lesmith@fcc.gov.

FOR FURTHER INFORMATION CONTACT: For additional information or copies of the information collections contact Les Smith at (202) 418-0217 or via the Internet at lesmith@fcc.gov.

SUPPLEMENTARY INFORMATION: OMB Control Number: 3060-0095.

Title: Annual Employment Report—Cable Television.

Form Number: FCC 395-A.

Type of Review: Revision of a currently approved collection.

Respondents: Business or other for-profit entities.

Number of Respondents: 1,950.

Estimate Time Per Response: 0.116 to 2.417 hours.

Frequency of Response: Annual reporting requirement.

Total Annual Burden: 3,301 hours.

Total Annual Costs: None.

Needs and Uses: The Annual Employment Report, FCC Form 395-A, is used to assess industry trends. Every cable company with six or more full-time employees and all Satellite Master Antenna Television Systems serving 50 or more subscribers and having six or more full-time employees must complete FCC Form 395-A. It must be filed annually. Form 395-A identifies employees by gender, race, color, and/or national origin in 15 job categories and lists data on each entity's employees by their full or part-time employment status, job title, and job category. Cable companies with five or fewer employees only need to complete and file Sections I, II, and VIII of this form, and thereafter, only need file again if their employment increases. In addition, cable companies with six or more full-time employees must file a Supplemental Investigation Sheet once every five years. On January 20, 2000, the FCC adopted a Report and Order in MM Docket 98-204 and 96-16, Review of the Commission's Broadcast and Cable Equal Employment Opportunity Rules and Policies and Termination of the EEO Streamlining Proceeding. FCC Form 395-A has been revised to reflect the new rules and policies adopted in this Report and Order.

OMB Control Number: 3060-0113.

Title: Broadcast EEO Program Report.

Form Number: FCC 396.

Type of Review: Revision of currently approved collection.

Respondents: Businesses or other for-profit entities; Not-for-profit Institutions.

Number of Respondents: 2,000.

Estimated Time Per Response: 1.0 hours.

Frequency of Response: Reporting required upon license expiration.

Total Annual Burden: 3,000 hours.

Total Annual Cost: $100,000.

Needs and Uses: On January 20, 2000, the FCC adopted a Report and Order which modified the Commission's broadcast and EEO rules and policies consistent with the D.C. Circuit Court's decision in Lutheran Church—Missouri Synod v. FCC to ensure equal employment opportunity in the broadcast industry. The Commission is modifying FCC Form 396, the Broadcast Equal Employment Opportunity Program, to reflect the new rules and policies in this Report and Order. The FCC has reinstated the requirement that all AM, FM, TV, Low Power TV, and International stations broadcast licensees with five or more full-time employees, must file FCC Form 396 at the time of the renewal of their licensees. This form is used to evaluate a broadcaster's EEO program to ensure that satisfactory efforts are being made to comply with the FCC's EEO requirements.

OMB Control Number: 3060-0120.

Title: Broadcast Equal Employment Opportunity Model Program Report.

Form Number: FCC 396-A.

Type of Review: Revision of currently approved collection.

Respondents: Businesses or other for-profit entities; Not-for-profit institutions.

Number of Respondents: 5,000.

Estimated Time Per Response: 1 hour.

Frequency of Response: On occasion reporting requirement.

Total Annual Burden: 5,000 hours.

Total Annual Cost: None.

Needs and Uses: Applicants seeking authority to construct a new broadcast station, to obtain assignment of construction permit or license, and/or to seek authority to acquire control of an entity holding construction permit or license must file FCC Form 396-A. The form is designed to assist the applicant in establishing an effective EEO program for their station. On January 20, 2000, the FCC adopted a Report and Order in MM Docket 98-204 and 96-16, Review of the Commission's Broadcast and Cable Equal Employment Opportunity Rules and Policies and Termination of the EEO Streamlining Proceeding. This form has been revised to reflect the new rules and policies in this Report and Order. The revisions include new instructions and questions in Section IV to clarify that recruitment measures should be broad and inclusive. Form 396-A will no longer ask applicants to list certain categories of proposed recruitment sources but will allow applicants to propose recruitment contacts which they believe will achieve wide dissemination and be productive in generating qualified applicants. Applicants will also be required to identify in Section V whether they elect to utilize the supplemental recruitment measures or to use the alternative recruitment program.

OMB Control Number: 3060-0574.

Title: Annual Employment Report.

Form Number: FCC 395-M.

Type of Review: Revision of currently approved collection.

Respondents: Businesses or other for-profit entities.

Number of Respondents: 251.

Estimated Time Per Response: 0.166 to 2.417 hours.

Frequency of Response: Annual reporting requirement.

Total Annual Burden: 394 hours.

Total Annual Cost: None.

Needs and Uses: FCC Form 395-M, Multi-Channel Video Programming Distributor (MVPD) Annual Employment Report, is used to assess industry employment trends. The report identifies employees by gender, race, color, and/or national origin in 15 job categories and collects data on full and part-time employment status, job titles, and job categories. Every MVPD with six or more full-time employees must file FCC Form 395-M annually, and a Supplemental Investigation sheet once every five years. An MVPD with five or fewer employees must file Sections I, II, and VIII only once, unless the MVPD's employment increases. On January 20, 2000, the FCC adopted a Report and Order, Review of the Commission's Broadcast and Cable Equal Employment Opportunity Rules and Policies and Termination of the EEO Streamlining Proceeding, which modified the Commission's broadcast, cable, and MVPD EEO rules and policies consistent with the D.C. Circuit Court's decision in Lutheran Church-Missouri Synod v. FCC. Form 395-M has been revised to reflect the new rules and policies adopted in this Report and Order.

Federal Communications Commission.
Magalie Roman Salas,
Secretary.

[FR Doc. 00-5031 Filed 3-1-00; 8:45 am]

BILLING CODE 6712-01-U